ENVIRONMENTAL PROTECTION AGENCY

[FRL OP-OFA-140]

Environmental Impact Statements; Notice of Availability

Responsible Agency: Office of Federal Activities, General Information 202-564-5632 or https://www.epa.gov/nepa.

Weekly receipt of Environmental Impact Statements (EIS)

Filed August 12, 2024 10 a.m. EST Through August 19, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240149, Final, USACE, FL, Tampa Harbor Navigation Improvement Study Final Integrated General Reevaluation Report and Environmental Impact Statement, Review Period Ends: 09/23/2024, Contact: Rachel Case 904-232-1035.

EIS No. 20240150, Final, BLM, WY, Proposed Resource Management Plan and Final Environmental Impact Statement for the Rock Springs Field Office, Wyoming, Review Period Ends: 09/23/2024, Contact: Kimberlee Foster 307-352-0201.

EIS No. 20240151, Draft, USACE, OR, Lower Columbia River Channel Maintenance Plan, Draft Dredged Material Management Plan and Environmental Impact Statement, Comment Period Ends: 10/07/2024, Contact: Amy Gibbons 503-808-4708.

Dated: August 19, 2024.
Timothy Witman,
Acting Director, NEPA Compliance Division, Office of Federal Activities.

[FR Doc. 2024-18940 Filed 8-22-24; 8:45 am]

BILLING CODE 6560-50-P